DEPARTMENT OF TRANSPORTATION

Federal Motor Carrier Safety Administration

[Docket No. FMCSA-2020-0062]

Marking of Commercial Motor Vehicles; Application for an Exemption From Adirondack Trailways, Pine Hill Trailways, and New York Trailways

AGENCY: Federal Motor Carrier Safety Administration (FMCSA), Department of Transportation (DOT).

ACTION: Notice of final disposition; renewal of exemption.

SUMMARY: FMCSA announces its decision to renew the exemption granted to Adirondack Transit Lines, Inc. (dba Adirondack Trailways), Pine Hill-Kingston Bus Corp. (dba Pine Hill Trailways), and Passenger Bus Corp. (dba New York Trailways), from the commercial motor vehicle (CMV) marking requirements under certain circumstances involving exchange, or interchange of equipment and/or drivers. FMCSA has analyzed the exemption renewal application and the public comment and has determined that the exemption, subject to the terms and conditions set forth below, is likely to achieve a level of safety that is equivalent to, or greater than, the level that would be achieved in the absence of the exemption.

DATES: The exemption is effective November 28, 2025, and expires May 28, 2030.

FOR FURTHER INFORMATION CONTACT: La Tonya Mimms, FMCSA Driver and Carrier Operations Division; Office of Carrier, Driver and Vehicle Safety Standards; 202-366-9220; latonya.mimms@dot.gov. If you have questions on viewing material in the docket, contact Docket Services, telephone (202) 366-9826.

SUPPLEMENTARY INFORMATION:

I. Public Participation

Viewing Comments and Documents

To view any documents mentioned as being available in the docket, go to https://www.regulations.gov/docket/FMCSA-2020-0062/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

The provisions in 49 CFR 390.21 require that every self-propelled CMV subject to the FMCSRs be marked with the legal name or a single trade name of the motor carrier operating the CMV, as listed on the Form MCSA-1, the URS online application, or the motor carrier identification report (Form MCS-150) and submitted in accordance with § 390.201 or § 390.19, as appropriate (49 CFR 390.21(b)(1)). The marking must also include the identification number issued by FMCSA to the motor carrier or intermodal equipment provider, preceded by the letters “USDOT” (49 CFR 390.21(b)(2)). Under 49 CFR 390.21(b)(3), if the name of any person other than the operating carrier appears on the CMV, the name of the operating carrier must be followed by the information required in 49 CFR 390.21(b)(1) and (b)(2) and be preceded by the words “operated by.”

Applicant's Request

Adirondack Trailways, Pine Hill Trailways, and New York Trailways' application for exemption renewal was described in detail in a Federal Register notice published on June 3, 2025, (90 FR 23595) and will not be repeated as the facts have not changed.

IV. Public Comments

The Agency received one comment. The American Bus Association supported granting the exemption renewal and said, “Insisting on compliance with the current federal marking requirements would not increase their safety performance, but it would create an efficiency challenge and add a significant cost to the current operations, possibly forcing a reduction in service in the long term.”

V. FMCSA Decision

FMCSA has evaluated the application from Adirondack Trailways, Pine Hill Trailways, and New York Trailways, the single comment filed, and the applicants' safety records, and grants the exemption renewal. The exemption does not provide relief from a rule that could impact the safety performance of the commonly owned companies. The applicants are fully responsible for complying with the applicable safety regulations (e.g., driver licensing and qualification, controlled substances and alcohol testing, inspection repair and maintenance, hours of service, etc.). Furthermore, the exemption does not leave Federal or State enforcement personnel without the means of identifying the carrier responsible for the operation of a vehicle on a given trip, or a means of conducting compliance assurance activities. As part of the terms and conditions of this exemption, the applicants are required to display the name and USDOT number assigned to the owner/lessee of the passenger carrier vehicle with information about the responsible motor carrier readily available from the driver.

FMCSA initially granted an exemption to Adirondack Trailways, Pine Hill Trailways, and New York Trailways on June 1, 2020. The applicants' safety records do not indicate any safety deterioration among any of the applicants since the granting of the initial exemption. FMCSA concludes that the exemption renewal, subject to the terms and conditions set forth in section VI, would likely achieve a level of safety that is equivalent to, or greater than, the level that would be achieved absent such exemption, in accordance with 49 U.S.C. 31315(b)(1).

VI. Exemption

A. Applicability of Exemption

This exemption from 49 CFR 390.21(b)(3) is issued to Adirondack Transit Lines, Inc., USDOT 117395 (dba Adirondack Trailways), Pine Hill-Kingston Bus Corp., USDOT 17352 (dba Pine Hill Trailways), and Passenger Bus Corp., USDOT 584575 (dba New York Trailways).

B. Terms and Conditions

When operating under this exemption:

1. Passenger-carrying commercial vehicles must display the name and USDOT number of the owner/lessee;

2. A document signed by at least one of the authorized carriers involved in the movement of the vehicle is kept in each vehicle operating under the exemption that provides (in electronic or paper format):

○ The registered name of each party to the agreement;

○ The USDOT number for each party to the agreement;

3. The passenger carrier named on the driver's record of duty status is the responsible motor carrier;

4. The owner/lessee and the responsible motor carrier must cooperate with all Federal, State, and local enforcement officials to provide the identity of the operators of the passenger carrying vehicle.

5. Adirondack Trailways, Pine Hill Trailways, and New York Trailways, as the responsible motor carriers, and drivers operating under the exemption must comply with all other requirements of the FMCSRs (49 CFR parts 350-399) and Hazardous Materials Regulations (49 CFR part 105-180).

6. Adirondack Trailways, Pine Hill Trailways, and New York Trailways must provide to FMCSA, upon request, a list of all motor carriers, along with their USDOT numbers, that have operated through lease agreements as the responsible motor carrier under this exemption.

C. Preemption

In accordance with 49 U.S.C. 31315(d), as implemented by 49 CFR 381.600, during the period this exemption is in effect, no State shall enforce any law or regulation applicable to interstate commerce that conflicts, or is inconsistent, with this exemption with respect to a firm or person operating under the exemption. States may, but are not required to, adopt the same exemption with respect to operations in intrastate commerce.

D. Notification to FMCSA

Adirondack Transit Lines, Inc. (dba Adirondack Trailways), Pine Hill-Kingston Bus Corp. (dba Pine Hill Trailways), and Passenger Bus Corp. (dba New York Trailways) must notify FMCSA within 5 business days of any accident (as defined in 49 CFR 390.5), involving any of the motor carrier's CMVs operating under the terms of this exemption. The notification must include the following information:

1. Identifier of the Exemption: “Adirondack Transit Lines, Inc. (dba Adirondack Trailways), Pine Hill-Kingston Bus Corp. (dba Pine Hill Trailways), and Passenger Bus Corp. (dba New York Trailways)”;

2. Name of operating carrier and USDOT number;

3. Date of the accident;

4. City or town, and State, in which the accident occurred, or closest to the accident scene;

5. Driver's name and license number;

6. Co-driver's name (if any) and license number;

7. Vehicle number and State license number;

8. Number of individuals suffering physical injury;

9. Number of fatalities;

10. The police-reported cause of the crash, if provided by the enforcement agency; and

11. Whether the driver was cited for violation of any traffic laws, motor carrier safety regulations.

Reports filed under this provision must be emailed to MCPSD@DOT.GOV with “Adirondack Trailways, Pine Hill Trailways and, New York Trailways” and “FMCSA-2020-0062” in the subject line.

VII. Termination

FMCSA does not believe the motor carriers covered by this exemption will experience any deterioration of their safety record. However, the exemption will be rescinded if: (1) Adirondack Transit Lines, Inc. (dba Adirondack Trailways), Pine Hill-Kingston Bus Corp. (dba Pine Hill Trailways), and Passenger Bus Corp. (dba New York Trailways), or the motor carriers or drivers operating under the exemption fail to comply with the terms and conditions of the exemption; (2) the exemption has resulted in a lower level of safety than would be achieved in the absence of the exemption; or (3) continuation of the exemption would not be consistent with the goals and objects of 49 U.S.C. 31136(e) and 31315(b).

Derek Barrs,
Administrator.

[FR Doc. 2025-21750 Filed 12-1-25; 8:45 am]

BILLING CODE 4910-EX-P